DEPARTMENT OF THE INTERIOR

National Park Service

[NPS-WASO-NRNHL-0212-9515; 2280-665]

Government-to-Government Telephonic Consultation Meetings

AGENCY: National Park Service, Interior.

SUMMARY: The National Park Service announces two telephonic government-to-government consultation meetings with Indian tribes that will be held to obtain initial input on issues related to programs of the National Register of Historic Places/National Historic Landmarks Program. The meetings will also provide an opportunity for input into the development of a consultation planning process for future consultation. The meetings are intended for every Indian tribe that the Secretary of the Interior acknowledges pursuant to the Federally Recognized Indian Tribe List Act of 1994 (25 U.S.C. 479a), and are in accordance with Executive Order 13175—Consultation and Coordination with Indian Tribal Governments (Nov. 6, 2000), the President's Memorandum for the Heads of Executive Departments and Agencies on the implementation of Executive Order 13175 (Nov. 5, 2009), and the Secretary of the Interior's Order No. 3317—Department of the Interior Policy on Consultation With Indian Tribes (Dec. 1, 2011).

DATES: Monday, April 23, 2012, at 1 p.m. to 5 p.m. EDT: Wednesday, May 23, 2012, at 1 p.m. to 5 p.m. EDT.

Location: Telephonic conference.

FOR FURTHER INFORMATION CONTACT: Alexis Abernathy, National Register of Historic Places program, National Park Service; 1849 C Street NW., (2280); Washington, DC 20240; Telephone (202) 354-2236; Email: Alexis_Abernathy@nps.gov.

The National Register of Historic Places/National Historic Landmarks Program of the National Park Service (NPS) invites Tribal Officials and/or their tribe's authorized representative(s) to attend one or both of two government-to-government telephonic consultation meetings that will be held to obtain initial planning-stage recommendations from Indian tribes on:

(1) Updating information contained in the National Register Bulletin, Guidelines for Evaluating and Documenting Traditional Cultural Properties,

(2) Developing guidance on identifying and evaluating National Register eligible traditional Native American landscapes, and

(3) Establishing a format and time frame for the balance of a consultation process that would allow NPS to best consider official comments from tribes about how traditional cultural properties and Native American landscapes can be addressed under the authorities of the National Historic Preservation Act.

The meetings are intended for every Indian tribe that the Secretary of the Interior acknowledges pursuant to the Federally Recognized Indian Tribe List Act of 1994 (25 U.S.C. 479a), and are in accordance with Executive Order 13175—Consultation and Coordination with Indian Tribal Governments (Nov. 6, 2000), the President's Memorandum for the Heads of Executive Departments and Agencies on the implementation of Executive Order 13175 (Nov. 5, 2009), and the Secretary of the Interior's Order No. 3317—Department of the Interior Policy on Consultation With Indian Tribes (Dec. 1, 2011). The first consultation meeting is scheduled for Monday, April 23, 2012, from 1 p.m. until 5 p.m. EDT. The second consultation meeting is scheduled for Wednesday, May 23, 2012, from 1 p.m. to 5 p.m. EDT. Depending on the length of the comments, one or both of these meetings could end earlier.

Those wishing to attend one or both consultations may register in one of three ways:

Registration Option 1 (Preferred Method)

Send an email message containing the following information to nr_info@nps.gov with “TCP Consultation Process” in the subject line. In the body of the email provide the name, title, tribal affiliation, mailing address, telephone number, and email address for each person who will be listening on the same telephone line. Please also note if you are an authorized tribal representative(s). Email registrants will receive a return email confirmation of their registration, together with information on accessing the consultation meeting. (Email registrants should add nr_info@nps.gov to their Contacts list in order to avoid spam filters.)

Registration Option 2

Fax a message to Alexis Abernathy at 202-371-2229 at the National Register Program Office in Washington, DC, with “TCP Consultation Process” in the subject line. Faxed information should include the name and return fax number of the authorized tribal representative submitting the registration as well as the name, title, tribal affiliation, mailing address, telephone number, and email address for each person who will be listening on the same telephone line.

Registration Option 3

Contact Alexis Abernathy at the National Register Program Office in Washington, DC, by telephone at 202-354-2236 and leave a message containing the name of the authorized tribal representative making the call along with the name, title, tribal affiliation, mailing address, telephone number, and email address for each person who will be participating in the conference on the same telephone line. Tribes registering via telephone will be mailed confirmation of their registration together with information on accessing the consultation meeting.

Authorized representatives of tribal governments who wish to speak at the telephonic consultation meetings should indicate their wish to do so when they register to attend the meetings, and also should identify the Indian tribe on whose behalf they intend to speak. Tribes may comment on any or all of the agenda items.

Registrations for the April 23, 2012, consultation meeting must be received no later than Monday, April 2, 2012. Registrations for the May 23, 2012, consultation meeting must be received no later than Monday, May 7, 2012.

Notice of two meetings will also be posted on the National Register Program's Web site at www.nps.gov/nr.

Questions regarding either the April 23 or May 23 government-to-government consultation meetings should be directed to program coordinator Alexis Abernathy at (202) 354-2236 or nr_info@nps.gov.

The National Register/National Historic Landmarks Program looks forward to hearing comments on these issues.

J. Paul Loether,
Chief, National Register/National Historic Landmarks Program, National Park Service.

[FR Doc. 2012-7261 Filed 3-26-12; 8:45 am]

BILLING CODE 4312-51-P